DEPARTMENT OF VETERANS AFFAIRS

Veterans Health Administration Fund Availability Under the VA's Homeless Providers Grant and Per Diem Program

AGENCY: Department of Veterans Affairs.

ACTION: Notice of Funding Availability (NOFA).

SUMMARY: Funding Opportunity Title: VA Grant and Per Diem (GPD) Special Needs Renewal. The Department of Veterans Affairs (VA) is announcing the availability of 1-year renewal funding for currently operational fiscal year (FY) 2011 VA GPD Special Need Grant Recipients, in conjunction with their collaborative VA Special Need partners and currently operational VA GPD Special Need Grant Recipients which do not involve a collaborative effort, to make re-applications for assistance under the Special Need Grant Component of VA's Homeless Providers GPD Program. The focus of this NOFA is to encourage applicants to continue to deliver services to the homeless Special Need veteran population as outlined in their FY 2009 Special Need grant application. This NOFA contains information concerning the program, application process, and amount of funding available.

Announcement Type: Initial.

Catalog of Federal Domestic Assistance Number: 64-024.

DATES: An original signed and dated request for re-application letter, on agency letterhead, for assistance under the VA's Homeless Providers GPD Program, must be received in the GPD Program Office by 4:00 p.m. Eastern Time on Friday, August 16, 2013, (see re-application requirements below). Requests for re-application may not be sent by facsimile (FAX). In the interest of fairness to all competing applicants, this deadline is firm as to date and hour, and VA will treat as ineligible for consideration any request for re-application that is received after the deadline. Applicants should take this practice into account and make early submission of their material to avoid any risk of loss of eligibility brought about by unanticipated delays or other delivery-related problems.

For a copy of the application package: An application package is not needed for this NOFA. Applicants submitting a letter, on their agency's letterhead, requesting re-application agree to VA using their previously awarded FY 2009 Special Need application for scoring purposes (see re-application requirements in this NOFA).

Submission of application: An original and complete letter requesting re-application with project number (see re-application requirements in this NOFA) must be submitted to the following address: VA Homeless Providers GPD Program Office, 10770 N. 46th Street, Suite C-200, Tampa, FL 33617. Letters of re-application must be received in the GPD office by the re-application deadline. Any additional materials arriving separately will not be included in the re-application package for consideration.

FOR FURTHER INFORMATION CONTACT: Mr. Jeffery L. Quarles, Director, VA's Homeless Providers GPD Program, Department of Veterans Affairs, 10770 N. 46th Street, Suite C-200, Tampa, FL 33617; (toll-free) (877) 332-0334.

SUPPLEMENTARY INFORMATION:

I. Funding Opportunity Description

A. Purpose: This NOFA announces the availability of funds to renew assistance provided under VA's Homeless Providers GPD Program for FY 2011 operational GPD Special Need grant recipients and their collaborative VA partners. Eligible applicants may obtain grant assistance with additional operational costs that would not otherwise be incurred but for the fact that the recipient is providing supportive housing beds and services for the following special needs homeless veteran populations:

(1) Women;

(2) Frail elderly;

(3) Terminally ill;

(4) Chronically mentally ill; or

(5) Individuals who have care of minor dependents.

B. Definitions: Definitions of these populations are contained in 38 CFR 61.1 Definitions. Eligible applicants should review these definitions to ensure their proposed populations meet the specific requirements.

C. Approach: VA is pleased to issue this NOFA for the Homeless Providers GPD Program as a part of the effort to end homelessness among our Nation's veterans. Funding applied for under this NOFA may be used for: the provision of service and operational costs to facilitate the following with regard to the targeted group.

Women

(1) Ensure transportation for women, especially for health care and educational needs; and

(2) Address safety and security issues including segregation from other program participants if deemed appropriate.

Individuals Who Have Care of Minor Dependents

(1) Ensure transportation for individuals who have care of minor dependents, and their children, especially for health care and educational needs;

(2) Provide directly or offer referrals for adequate and safe child care;

(3) Ensure children's health care needs are met, especially age-appropriate wellness visits and immunizations; and

(4) Address safety and security issues, including segregation from other program participants if deemed appropriate.

Frail Elderly

(1) Ensure the safety of the residents in the facility to include preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices such as walkers, grippers, or other devices necessary for optimal functioning;

(5) Ensure adequate supervision, including supervision of medication and monitoring of medication compliance; and

(6) Provide opportunities for participants either directly or through referral for other services particularly relevant for the frail elderly, including services or programs addressing emotional, social, spiritual, and generative needs.

Terminally Ill

(1) Help participants address life-transition and life-end issues;

(2) Ensure that participants are afforded timely access to hospice services;

(3) Provide opportunities for participants to engage in “tasks of dying,” or activities of “getting things in order” or other therapeutic actions that help resolve end of life issues and enable transition and closure;

(4) Ensure adequate supervision, including supervision of medication and monitoring of medication compliance; and

(5) Provide opportunities for participants, either directly or through referral, for other services that are particularly relevant for the terminally ill, such as legal counsel and pain management.

Chronically Mentally Ill

(1) Help participants join in and engage with the community;

(2) Facilitate reintegration with the community and provide services that may optimize reintegration such as life-skills education, recreational activities, and follow-up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money management services, medication compliance, and medication education.

VA is seeking, through this NOFA, to renew the FY 2011 previous grant and per diem Special Need providers and their VA collaborative partners to continue to serve the Special Need veteran populations.

D. Requirements: No part of a Special Need grant may be used for any purpose that would change significantly the scope of the specific grant and per diem project for which a capital grant and per diem was awarded. As a part of the review process, VA will review the original project and subsequent approved program changes of the previous FY 2009 Special Need applications to ensure significant scope changes have not occurred displacing other homeless veteran populations. VA will not allow any changes under this renewal NOFA. Special Need funding may not be used for capital improvements or to purchase vans or real property. However, the leasing of vans or real property may be acceptable. Questions regarding acceptability should be directed to the VA's National GPD Program Office (at (877) 332-0334). Applicants may not receive Special Need funding to replace funds provided by any Federal, state, or local government agency or program to assist homeless persons.

E. Authority: Funding applied for under this NOFA is authorized by the “Homeless Veterans Comprehensive Assistance Act of 2001,” Public Law 107-95, § 5, codified as amended by Public Law 112-154, §§ 301, 303, and 305, at 38 U.S.C. 2011, 2012, 2013, 2061. The program is implemented by the final rule codified at 38 CFR 61.0 through 61.82. Funds made available under this NOFA are subject to the requirements of those regulations.

II. Award Information

A. Overview: This NOFA announces the availability of one year renewal funding for currently operational FY 2011 VA GPD Special Need Grant Recipients in conjunction with their collaborative VA Special Need partners and currently operational VA GPD Special Need Grant Recipients which do not involve a collaborative effort to make re-applications for assistance under the Special Need Grant Component of VA's Homeless Providers GPD Program.

B. Funding Priorities: None

C. Allocation of Funds: Approximately $5 million is available for current Special Need GPD grant components of this program. Funding will be for a period beginning on October 1, 2013, and ending on September 30, 2014. Special need per diem payments are to defray the operational cost of the project. Special need per diem payment will be the lesser of:

1. One hundred percent of the daily cost of care estimated by the special need recipient for furnishing services to homeless veterans with special need that the special need recipient certifies to be correct, minus any other sources of income; or

2. Two times the current VA State Home Program per diem rate for domiciliary care.

Special need awards are subject to funds availability, the recipient meeting the performance goals as stated in the grant application, statutory and regulatory requirements, and annual inspections. Applicants should ensure their funding requests and operational costs are based on the 12-month period above and should be approximately in line with prior 1-year expenditures. Based on GPD funding availability, approximately, $3.5 million is expected to be made available over the specified time (internally) for the current VA collaborative partners. The goal of this Notice is to ensure a continuation of Special Need services to homeless veterans and their VA collaborative partners, to the maximum extent possible.

III. Eligibility Information

A. Eligible Applicants: In order to be eligible, an applicant must be a current operational FY 2011 VA GPD Special Need Grant Recipient in conjunction with their collaborative VA Special Need partners, or a currently operational VA GPD Special Need Grant Recipient that does not involve a collaborative effort to make re-applications for assistance under the Special Need Grant Component of VA's Homeless Providers GPD Program.

B. Cost Sharing or Matching: This section is not applicable to the Special Need Grant.

IV. Application and Submission Information

A. Address To Request Application Package: An application package is not needed for this NOFA. Applicants submitting a letter requesting re-application on their agency's letterhead agree to VA using their previously awarded FY 2009 Special Need application for scoring purposes.

B. Content and Form of Application: A separate request for renewal letter is needed for each project number for which you are requesting Special Needs Funding. In addition, current Special Need recipients should also list their Special Need Project number. A project number is the last two digits of the year funded, the sequence the application was received, and the state abbreviation for the project location, (e.g., 09-325-MA would have been funded in the year 2009, the 325th application received, and the project is located in Massachusetts). If you do not know your project number, call VA's GPD Field Office at (877) 332-0334.

The grant application requirements were specified and met in the original application package and need not be provided as the applicant agrees that, as a condition of funding under this NOFA, the FY 2009 application with any VA-approved changes in scope will be used. The following additional information is required by this NOFA. The renewal request must include:

1. Letter from Applicant: A letter from the renewal applicant on agency-signed letterhead, stating the applicant agrees to as a condition of funding under this NOFA that the FY 2009 application will be used and they will provide the services as outlined in that application along with any VA-approved changes in scope, and the applicant's FY 2009 required forms and certifications still apply for the period of this award.

2. Letter from VA Collaborative Partner: If the FY 2009 Special Need grant was a collaborative, the renewal request must include an updated letter of commitment or an updated Memorandum of Agreement (MOA) from the VA collaborative partner, stating that the VA will continue to meet its objectives or provide its duties as outlined in the original MOA in FY 2009.

3. Collaborative partners: VA collaborative partners will receive the same amount of funding as they receive in FY 2013. Applicants having questions with regard to the funding from previous Special Need awards should contact the GPD Office prior to application for this NOFA. Selections will be made based on criteria described in the FY 2009 application and additional information as specified in this NOFA.

Applicants who are selected will be notified of any further additional information needed to confirm or clarify information provided in the application. Applicants will then be notified of the deadline to submit such information. If an applicant is unable to meet any conditions for grant award within the specified time frame, VA reserves the right to not award funds and to use the funds available for other Special Need applicants.

C. Submission Dates and Times: An original signed and dated request for re-application letter, on agency letterhead, for assistance under the VA's Homeless Providers GPD Program must be received in the GPD Program Office, by 4:00 p.m. Eastern Time on Friday, August 16, 2013. Requests for re-application may not be sent by FAX. In the interest of fairness to all competing applicants, this deadline is firm as to date and hour, and VA will treat as ineligible for consideration any request for re-application that is received after the deadline. Applicants should take this practice into account and make early submission of their material to avoid any risk of loss of eligibility brought about by unanticipated delays or other delivery-related problems.

D. Intergovenmental Review: This section is a not applicable.

E. Funding Restrictions: Approximately $5 million is available for current Special Need GPD grant component of this program. Funding will be for a period beginning on October 1, 2013, and ending on September 30, 2014. Special need per diem payments are to defray the operational cost of the project. Special need per diem payment will be the lesser of:

1. 100 percent of the daily cost of care estimated by the special need recipient for furnishing services to homeless veterans with special need that the special need recipient certifies to be correct, minus any other sources of income; or

2. Two times the current VA State Home Program per diem rate for domiciliary care.

Based on GPD funding availability, approximately, $3.5 million is expected to be made available over the specified time (internally) for the current VA collaborative partners.

F. Grant Award Period and Funding Actions: Conditionally selected applicants will complete a funding agreement with VA in accordance with 38 CFR 61.61 and provide any additional information as required by VA. Upon signature by the Secretary or designated representative final selection will be completed. Funding for operational grant and per diem applicants that are finally selected will not exceed the 1-year period specified in this NOFA. A condition to obtain the Special Need Grant is for the applicant to include the original (GPD) program for which the Special Need grant is sought.

G. Other Submission Requirements: Requests for re-application may not be sent by FAX. In the interest of fairness to all competing applicants, this deadline is firm as to date and hour, and VA will treat as ineligible for consideration any request for re-application that is received after the deadline. Applicants should take this practice into account and make early submission of their material to avoid any risk of loss of eligibility brought about by unanticipated delays or other delivery-related problems.

V. Application Review Information

A. Criteria: The threshold for consideration for this award will be those applicants who submit the required letter requesting renewal described in this NOFA, that are current operational FY 2011 VA GPD Special Need Grant Recipients in conjunction with their collaborative VA Special Need partners, or a currently operational VA GPD Special Need Grant Recipients that does not involve a collaborative effort to make re-applications for assistance under the Special Need Grant Component of VA's Homeless Providers GPD Program.

B. Review and Selection Process: A letter from the renewal applicant on agency signed letterhead stating the applicant agrees that, as a condition of funding under this NOFA, the FY 2009 application will be used and they will provide the services as outlined in that application along with any VA approved changes in scope, and the applicant's FY 2009 required forms and certifications still apply for the period of this award. If the FY 2009 Special Need grant was a collaborative effort, the renewal request must include an updated letter of commitment or an updated MOA from VA collaborative partner, stating that the VA will continue to meet its objectives or provide its duties as outlined in the original MOA in FY 2009.

VI. Award Administration Information

A. Award Notice: Although subject to change, the GPD Office expects the announcement of grant renewals during the first quarter of fiscal year 2014 (which begins October 1, 2013). The initial announcement will be made via news release, which will be posted on the GPD Web site at www.va.gov/homeless/gpd.asp. Following the initial announcement, the GPD Office will mail a notification letter to the grant recipients. Applicants that are not selected for renewal of their grant will be mailed a declination letter within 2 weeks of the initial announcement.

B. Administrative and National Policy: It is important to be aware that VA places great emphasis on responsibility and accountability. VA has procedures in place to monitor services provided to homeless veterans and outcomes associated with the services provided in grant and per diem-funded programs. Applicants should be aware of the following:

1. Awardees will be required to support their request for Special Needs per diem payments with adequate fiscal documentation as to program income and expenses.

2. All awardees that are selected in response to this NOFA must meet the requirements of the current edition of the Life Safety Code of the National Fire Protection Association as it relates to their specific facility. Applicants should note that all facilities are to be protected throughout by an approved automatic sprinkler system, unless a facility is specifically exempted under the Life Safety Code. Applicants should make consideration of this when submitting their grant applications as no additional funds will be made available for capital improvements under this NOFA.

3. Each grant awardee will have the VA liaison that was appointed for its current Special Need grant program monitor services to ensure the Special Need grant is being met and will include at least an annual review of each program's progress toward meeting internal goals and objectives in helping the Special Need homeless veterans as identified in each applicant's original Special Need application to include any VA-approved changes in scope.

4. Monitoring of Homeless Special Need participants and services provided by GPD recipients will be accomplished according to appropriate VA procedure. These monitoring procedures will be used to determine successful accomplishment of outcomes for each collaborative partnership.

FOR FURTHER INFORMATION CONTACT: Mr. Jeffery L. Quarles, Director, VA Homeless Providers Grant and Per Diem Program, Department of Veterans Affairs, 10770 N. 46th Street, Suite C-200, Tampa, FL 33617; (toll-free) (877) 332-0334.

Approved: August 1, 2013.
Jose D. Riojas,
Interim Chief of Staff, Department of Veterans Affairs.

[FR Doc. 2013-19166 Filed 8-7-13; 8:45 am]

BILLING CODE P